DEPARTMENT OF DEFENSE

Office of the Secretary

[DoD-2006-OS-0073]

Base Closure and Realignment

Corrections

In notice document 06-6078 beginning on page 38865 in the issue of Monday, July 10, 2006, make the following corrections:

1. On page 38865, in the second column, in the last line, “(334) 727-833” should read “(334) 727-3833”.

2. On the same page, in the third column, under the heading Pennsylvania, in the first line, “Wilkes-Varre” should read “Wilkes-Barre”.

[FR Doc. C6-6078 Filed 7-18-06; 8:45 am]

BILLING CODE 1505-01-D

DEPARTMENT OF TRANSPORTATION

Federal Aviation Administration

Notice of Intent to Request Revision from the Office of Management and Budget of a Currently Approved Information Collection Activity, Request for Comments; Type Certification Procedures for Changed Products

Correction

In notice document 06-5749 appearing on page 36868 in the issue of Wednesday, June 28, 2006, make the following correction:

In the second column, under the heading Abstract, in the fifth line, “Collection” should read “Certificates”.

[FR Doc. C6-5749 Filed 7-18-06; 8:45 am]

BILLING CODE 1505-01-D